DEPARTMENT OF ENERGY

10 CFR Part 430

[Docket No. EERE-2011-BT-STD-0006]

RIN 1904-AC43

Energy Conservation Program: Availability of the Preliminary Technical Support Document for General Service Fluorescent Lamps and Incandescent Reflector Lamps

AGENCY: Office of Energy Efficiency and Renewable Energy, Department of Energy.

ACTION: Notice of extension of public comment period.

SUMMARY: On February 28, 2013, the U.S. Department of Energy (DOE) published a notice of public meeting and availability of the preliminary analysis on general service fluorescent lamps (GSFLs) and incandescent reflector lamps (IRLs) energy conservation standards in the Federal Register. This notice announces an extension of the public comment period for submitting comments on the preliminary analysis or any other aspect of the rulemaking for GSFLs and IRLs. The comment period is extended to May 13, 2013.

DATES: The comment period for the proposed rule published February 28, 2013, at 78 FR 13563, is extended. DOE will accept comments, data, and other information regarding this proposed rulemaking no later than May 13, 2013.

ADDRESSES: Interested persons may submit comments, identified by docket number EERE-2011-BT-STD-0006 and/or Regulation Identification Number (RIN) 1904-AC43, by any of the following methods:

• Federal eRulemaking Portal: www.regulations.gov. Follow the instructions for submitting comments.

• Email: GSFL-IRL_2011-STD-0006@ee.doe.gov. Include the docket number EERE-2011-BT-STD-0006 and/or RIN 1904-AC43 in the subject line of the message.

• Mail: Ms. Brenda Edwards, U.S. Department of Energy, Building Technologies Program, Mailstop EE-2J, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza, SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: http://www1.eere.energy.gov/buildings/appliance_standards/rulemaking.aspx/ruleid/24. This Web page contains links to the preliminary technical support document and other supporting materials and information for this rulemaking on the regulations.gov site. The regulations.gov Web page contains instructions on how to access all documents in the docket, including public comments.

FOR FURTHER INFORMATION CONTACT: Ms. Lucy deButts, U.S. Department of Energy, Office of Energy Efficiency and Renewable Energy, Building Technologies, EE-2J, 1000 Independence Avenue SW., Washington, DC 20585-0121. Telephone: (202) 287-1604. Email: general_service_fluorescent_lamps@ee.doe.gov.

In the Office of the General Counsel, contact Ms. Elizabeth Kohl, U.S. Department of Energy, Office of the General Counsel, GC-71, 1000 Independence Avenue SW., Washington, DC 20585-0121. Telephone: (202) 586-7796. Email: elizabeth.kohl@hq.doe.gov.

SUPPLEMENTARY INFORMATION: On February 28, 2013, the U.S. Department of Energy (DOE) published a notice of public meeting and availability of the preliminary analysis in the Federal Register (78 FR 13563) to make available and invite comments on the preliminary analysis for general service fluorescent lamps and incandescent reflector lamps energy conservation standards. The notice provided for the submission of comments by April 15, 2013, and comments will also be accepted at a public meeting to be held on April 9, 2013. The Appliance Standards Awareness Project (ASAP) and the National Electrical Manufacturers Association (NEMA) jointly requested a four-week extension of the comment period. ASAP and NEMA stated the additional time was needed for interested parties to consider and respond to the preliminary technical support document and public meeting presentation, and prepare and submit comments accordingly.

DOE has determined that an extension of the public comment period is appropriate based on the foregoing reason and is hereby extending the comment period. DOE will consider any comments received by midnight of May 13, 2013, and deems any comments received by that time to be timely submitted.

Issued in Washington, DC, on April 1, 2013.
Kathleen B. Hogan,
Deputy Assistant Secretary for Energy Efficiency, Energy Efficiency and Renewable Energy.

[FR Doc. 2013-07974 Filed 4-4-13; 8:45 am]

BILLING CODE 6450-01-P